DEPARTMENT OF COMMERCE

International Trade Administration

Advocacy Questionnaire

AGENCY: International Trade Administration, DOC.

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c)(2)(A)).

DATES: Written comments must be submitted on or before March 22, 2005.

ADDRESSES: Direct all written comments to Diana Hynek, Departmental Paperwork Clearance Officer, Department of Commerce, Room 6625, 14th & Constitution Ave., NW., Washington, DC 20230, or e-mail dHynek@doc.gov.

FOR FURTHER INFORMATION CONTACT: Request for additional information or copies of the information collection instrument and instructions should be directed to: Joe Enright, The Advocacy Center, Room 3814A, Department of Commerce, 14th and Constitution Ave., NW., Washington, DC 20230; Phone number: (202) 482-3896, and fax number; (202) 501-2895.

SUPPLEMENTARY INFORMATION:

I. Abstract

The U.S. Department of Commerce invites the general public and other Federal agencies to comment on the proposed extension of the use of the advocacy questionnaire by the Trade Promotion Coordination Committee's (TPCC) Advocacy Network. The questionnaire is used to evaluate requests for United States Government (USG) advocacy in connection with overseas commercial bids, offers, and proposals. The International Trade Administration's Advocacy Center marshals federal resources to assist U.S. commercial interests competing for foreign government commercial projects, procurements, investments, business ventures worldwide. The mission of the Advocacy Center is to coordinate USG commercial advocacy in order to promote U.S. exports, trade which both creates and sustains U.S. employment. The Advocacy Center works with and coordinates activities within TPCC which is chaired by the Secretary of Commerce and includes 19 federal agencies involved in export promotion. The purpose of the advocacy questionnaire is to collect the information necessary to evaluate a commercial I interest's (e.g., a company's) eligibility for USG advocacy assistance. There are clear, well-established USG advocacy guidelines that describe the various situations in which the USG can provide advocacy support for a specific commercial interest. The questionnaire was developed to collect only the information necessary to determine if a commercial interest meets the eligibility requirements set forth in the advocacy guidelines. The Advocacy Center, appropriate ITA officials, U.S. Embassy/Consulate officials worldwide, and other federal government agencies (the Advocacy Network) that provide advocacy support, will require firms seeking USG advocacy support to complete the questionnaire. Without the information, the USG would be unable to determine the eligibility of commercial interests seeking USG advocacy support.

II. Method of Collection

When U.S. commercial interests request USG advocacy assistance, they are either sent Form ITA-4133P or referred to the Advocacy Center's Web site from which Form ITA-4133P may be down-loaded completed, signed, and filed.

III. Data

OMB Number: 0625-0220.

Form Number: ITA-4133P.

Type of Review: Regular Submission.

Affected Public: Commercial Interests seeking USG advocacy.

Estimated Number of Respondents: 200.

Estimated Time Per Response: 30 minutes.

Estimated Total Annual Burden Hours: 205.

Estimated Total Annual Costs: $15,300.00 ($9,175.00 for respondents and $6,125.00 for federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: January 13, 2005.
Madeleine Clayton,
Management Analyst, Office of the Chief Information Officer.

[FR Doc. E5-197 Filed 1-19-05; 8:45 am]

BILLING CODE 3510-FP-P